DEPARTMENT OF HEALTH AND HUMAN SERVICES

Administration for Children and Families

Submission for Office of Management and Budget Review; Case Plan Requirement, Title IV-E of the Social Security Act

AGENCY: Children's Bureau, Administration for Children and Families, United States Department of Health, and Human Services.

ACTION: Request for public comments.

SUMMARY: The Administration for Children and Families (ACF), is requesting a 3-year extension of the information collection Case Plan Requirement, Title IV-E of the Social Security Act, (Office of Management and Budget (OMB) #0970-0428, expiration September 30, 2023). There are no changes to the requirements, but burden estimates have been updated to reflect current numbers of children in foster care.

DATES: Comments due within 30 days of publication. OMB must make a decision about the collection of information between 30 and 60 days after publication of this document in the Federal Register. Therefore, a comment is best assured of having its full effect if OMB receives it within 30 days of publication.

ADDRESSES: Written comments and recommendations for the proposed information collection should be sent within 30 days of publication of this notice to www.reginfo.gov/public/do/PRAMain. Find this particular information collection by selecting “Currently under 30-day Review-Open for Public Comments” or by using the search function. You can also obtain copies of the proposed collection of information by emailing infocollection@acf.hhs.gov. Identify all emailed requests by the title of the information collection.

SUPPLEMENTARY INFORMATION:

Description: The case plan information collection is authorized in sections 422(b)(8)(A)(ii) and 471(a)(16), and defined in sections 475 and 475A of the Social Security Act (the Act). Statutory requirements in the Act mandate that states, territories, and tribes with an approved title IV-E plan develop a case review system and case plan for each child in the foster care system for whom the state, territory, or tribe receives title IV-E reimbursement of foster care maintenance payments. The case review system assures that each child has a case plan designed to achieve placement in a safe setting that is the least restrictive, most family-like setting available and in close proximity to the child's parental home, consistent with the best interest and special needs of the child. States, territories, and tribes meeting these requirements also partly comply with title IV-B, section 422(b), of the Act, which assures certain protections for children in foster care. The case plan is a written document that provides a narrative description of the child-specific program of care. Federal regulations at 45 CFR 1356.21(g) and sections 475 and 475A of the Act delineate the specific information that must be addressed in the case plan. ACF does not specify a format for the case plan nor does ACF require submission of the document to the federal government. Case plan information is recorded in a format developed and maintained by the state, territorial, or tribal title IV-E agency.

Burden estimates have been adjusted to reflect two additional agencies, a decreased number of children entering foster care and an increased number of children exiting foster care.

Respondents: State, territorial, and tribal title IV-E agencies.

Annual Burden Estimates
Instrument | Total number of respondents | Total number of responses per respondent | Average burden hours per response | Total burden hours | Annual burden hours
Case Plan | 66 | 23,039 | 4.8 | 7,298,755 | 2,432,918

Estimated Total Annual Burden Hours: 2,432,918.

Authority: 42 U.S.C. 622; 42 U.S.C. 671; 42 U.S.C. 675; 42 U.S.C. 675a.

Mary B. Jones,
ACF/OPRE Certifying Officer.

[FR Doc. 2023-16340 Filed 8-1-23; 8:45 am]

BILLING CODE 4184-01-P